DEPARTMENT OF ENERGY

Federal Energy Regulatory Commission

[Docket No. CP07-385-000]

Transcontinental Gas Pipe Line Corporation; Notice of Request Under Blanket Authorization

June 5, 2007.

Take notice that on May 21, 2007, Transcontinental Gas Pipe Line Corporation (Transco), Post Office Box 1396, Houston, Texas 77251, filed in Docket No. CP07-385-000, an application pursuant to sections 157.205, 157.208, and 157.212 of the Commission's Regulations under the Natural Gas Act (NGA) as amended, to construct and operate a new receipt point to receive revaporized liquefied natural gas in Cameron Parish, Louisiana, under Transco's blanket certificate issued in Docket No. CP82-426-000, all as more fully set forth in the application which is on file with the Commission and open to the public for inspection.

Transco proposes to construct and operate a new receipt point on Transco's 30-inch diameter Southwest Louisiana (SWLA) lateral to receive revaporized natural gas from the Sabine Pass LNG, L.P. import terminal by way of the Cheniere Sabine Pass Pipeline Company's (Cheniere) pipeline. The tap on Transco's SWLA lateral would be located within the yard of Transco's existing Compressor Station No. 44 in Cameron Meadows, Cameron Parish, Louisiana. Transco states that the interconnection with Cheniere would be located adjacent to Compressor Station No. 44. Transco also states that the new receipt point would provide Transco with the ability to receive up to 1 Bcf of revaporized LNG per day from the Cheniere Sabine Pass pipeline into Transco's SWLA lateral. Transco estimates that it would cost $1,600,000 to construct the proposed receipt point facilities. Transco further states that Cheniere would reimburse Transco for all costs associated with construction of the proposed facilities.

Any questions concerning this application may be directed to Bill Hammons, Transcontinental Gas Pipe Line Corporation, P.O. Box 1396, Houston, Texas 77251, or telephone 713-215-2130.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to § 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

2

[FR Doc. E7-11352 Filed 6-12-07; 8:45 am]

BILLING CODE 6717-01-P